DEPARTMENT OF THE INTERIOR

Bureau of Land Management

[LLCA930000-L14400000-ET0000; CACA-54196 and CACA-54303]

Public Lands Order No. 7839; Withdrawal for the Trinity Wild and Scenic River; California

AGENCY: Bureau of Land Management, Interior.

ACTION: Public Land Order.

SUMMARY: Subject to valid existing rights, this order withdraws 3,664 acres of public and National Forest System lands from location and entry under the United States mining laws for a period of 20 years, to protect the cultural, recreational, and biological resources within and along the Trinity Wild and Scenic River. The lands have been and will remain open to leasing under the mineral and geothermal leasing laws, and disposal of the mineral materials under the Mineral Materials Act of 1947.

DATES: Effective on August 21, 2015.

FOR FURTHER INFORMATION CONTACT: Elizabeth Easley, BLM California State Office (CA-930), Federal Building (Room W-1928), 2800 Cottage Way, Sacramento, California 95825-1886; 916-978-4673 or Nathan Price, United States Forest Service, Regional Office, R5, 1323 Club Drive, Vellejo, California 94592, 707-562-8963. Persons who use a telecommunications device for the deaf (TDD) may call the Federal Information Relay Service (FIRS) at 1-800-877-8339 to contact either of the above individuals. The FIRS is available 24 hours a day, 7 days a week, to leave a message or question. You will receive a reply during normal business hours.

SUPPLEMENTARY INFORMATION: The Bureau of Land Management and the United States Forest Service will manage the lands to protect the cultural, recreational, and biological resources within and along the Wild and Scenic Trinity River, including a $46 million Federal investment restoration of the natural functionality of the river, wetland, and riparian areas, fisheries habitat, and recreation improvements.

Order

By virtue of the authority vested in the Secretary of the Interior by Section 204 of the Federal Land Policy and Management Act of 1976, 43 U.S.C. 1714, it is ordered as follows:

1. Subject to valid existing rights, the following described lands are hereby withdrawn from location and entry under the United States mining laws, but not from leasing under the mineral or geothermal leasing laws or disposal under the Mineral Materials Act of 1947, in order to protect the cultural, recreational, and biological resources within and along the Trinity Wild and Scenic River:

Mount Diablo Meridian

(a) Public Lands

T. 33 N., R. 8 W.,

Sec. 18, lot 4, W½SE¼SW¼, SE¼SE¼SW¼, SW¼SW¼NW¼SE¼, and SW¼SW¼SE¼;

Sec. 19, N½NE¼NW¼, N½SW¼NE¼NW¼, and N½SE¼NE¼NW¼.

T. 32 N., R. 9 W.,

Sec. 4, lots 15 and 16;

Sec. 5, lot 5;

Sec. 6, lots 1, 6, 13, 17, and 21 to 26, inclusive, and SE¼NE¼;

Sec. 26, lots 11, 12, and 13, S½SE¼NE¼, and N½NE¼SE¼.

T. 33 N., R. 9 W.,

Sec. 13, lot 1, S½NE¼NE¼, N½SE¼NW¼, and SE¼SE¼NW¼;

Sec. 22, S½SE¼SE¼;

Sec. 23, N½NE¼NE¼NE¼, SE¼NE¼NE¼, SW¼SE¼SW¼NE¼, NE¼SE¼NE¼, S½SE¼NE¼, S½SW¼SW¼SW¼, S½SE¼SW¼SW¼, NE¼SE¼SW¼, S½SE¼SW¼, and S½NW¼SE¼;

Sec. 24, lot 1;

Sec. 27, lot 17;

Sec. 28, lots 4, 7, 8, 9, 12, and 13;

Sec. 29, SE¼NE¼SE¼, NE¼SE¼SE¼, and S½SE¼SE¼;

Sec. 31, SE¼SE¼NE¼ and E½NE¼SE¼;

Sec. 32, N½NE¼NE¼, SW¼NE¼NE¼, NW¼NE¼, NE¼NE¼NW¼, S½NE¼NW¼, SE¼NW¼NW¼, NE¼SW¼NW¼, W½SW¼NW¼, SW¼SE¼SE¼, W½SE¼SE¼SE¼, and SE¼SE¼SE¼SE¼;

Sec. 34, lot 6.

T. 32 N., R. 10 W.,

Sec. 1, lots 12, 13, and 14, SW¼NW¼, W½SE¼NW¼, W½NE¼SW¼, NW¼SW¼, E½SW¼SW¼, and NE¼SE¼SE¼;

Sec. 2, lot 2, SW¼NE¼, E½NE¼SE¼NW¼, E½SE¼SE¼NW¼, E½NE¼NE¼SW¼, E½SE¼NE¼SW¼, N½SE¼, NE¼SW¼SE¼, and N½SE¼SE¼;

Sec. 12, lots 9 and 10, and NW¼NE¼NE¼NE¼.

T. 33 N., R. 10 W.,

Sec. 7, lot 13;

Sec. 18, lots 13 to 16, inclusive, and 18 to 22, inclusive, and a portion of lot 8 as described in the Donation Grant Deed recorded December 24, 1986 in Book 264, pages 339 and 340, and containing 16.30 acres, more or less, to wit: That portion of Section 18, Township 33 North, Range 10 West, M.D.M., according to the official plat thereof, described as follows: Beginning at the quarter corner common to Sections 19 and 18, Township 33 North, Range 10 West, M.D.M., which point is marked by a brass capped iron pipe monument in a mound of rock set by the Bureau of Land Management in 1962; thence 1. North 0°29′ East, 1318.58 feet to the center south 1/16th corner of said Section 18, which is marked by a brass capped pipe monument in a mound of rock set by the Bureau of Land Management in 1986; thence 2. South 87°21′ East, 772.29 feet along the North line of the Southwest quarter of the Southeast quarter [lot 8] of said Section 18 to a point; thence 3. South 10°51′11″ West 579.13 feet to a point; thence 4. South 37°08′48″ West, 904.48 feet to a point in the South Line of said Section 18, from which the South quarter corner thereof bears North 86°54′ West, 127.55 feet distant; thence 5. North 86°54′ West, 127.55 feet to the point of beginning. This portion of lot 8 has not been officially surveyed and platted.

Sec. 19, lots 11, 13, and 16 to 19, inclusive;

Sec. 20, lot 4;

Sec. 29, lots 7 and 11;

Sec. 32, lots 11, 15, and 16;

Sec. 35, lot 6, E½NE¼SW¼, NE¼SE¼SW¼, and SW¼SE¼.

T. 33 N., R. 11 W.,

Sec. 1, lots 10 and 11;

Sec. 12, lots 8, 9, and 14;

Sec. 13, lot 6.

T. 34 N., R. 11 W.,

Sec. 21, lots 4 and 11 to 14, inclusive, and NW¼NW¼;

Sec. 27, lots 12 and 13;

Sec. 28, lots 3, 4, 6, 7, 9, 10, and 11;

Sec. 34, lots 15, 16, and 19;

Sec. 35, lots 4 and 12;

Sec. 36, lots 2, 3, and 7.

The areas described in (a) aggregate 3,123 acres, more or less, in Trinity County.

(b) National Forest System Lands

Shasta-Trinity National Forest

T. 32 N., R. 10 W.,

Sec. 4, lot 4 except that portion in Mineral Entry Patent 28914 (described as the W½ of said lot 4), SW¼NW¼;

Sec. 5, lot 7 and SE¼NE¼.

T. 33 N., R. 8 W.,

Sec. 8, S½SW¼;

Sec. 18, E½NE¼NE¼ and SE¼SE¼NE¼.

T. 33 N., R. 10 W.,

Sec. 29, lots 8, 9, 10, 15 and 18;

Sec. 30, lots 7 and 8;

Sec. 32, lots 12 and 14, and W½E½NW¼.

The areas described in (b) aggregate 541 acres, more or less, in Trinity County.

The total areas described in (a) and (b) aggregate 3,664 acres in Trinity County.

2. The withdrawal made by this order does not alter the applicability of the public land laws other than under the mining laws.

3. This withdrawal will expire 20 years from the effective date of this order, unless, as a result of a review conducted before the expiration date pursuant to Section 204(f) of the Federal Land Policy and Management Act of 1976, 43 U.S.C. 1714(f), the Secretary determines that the withdrawal shall be extended.

Janice M. Schneider,
Assistant Secretary—Land and Minerals Management.

[FR Doc. 2015-22670 Filed 9-8-15; 8:45 am]

BILLING CODE 4310-40-P